DEPARTMENT OF ENERGY

Federal Energy Regulatory Commission

[Docket No. ER11-4141-000]

New York Independent System Operator, Inc.; Notice of Request for Waiver and Shortened Notice Period

On July 29, 2011, the New York Independent System Operator, Inc. (NYISO) filed a notification of its inability to timely complete price corrections, a request for a limited tariff waiver to permit ancillary service prices to be corrected with the corrected prices to be posted by the end of Monday, August 1, 2011, and a request for a shortened notice period and expedited Commission action. NYISO requests a shortened answer period to facilitate expedited Commission consideration. NYISO states that good cause exists for the Commission to act on an expedited basis because until the Commission acts on NYISO's waiver request, NYISO and market participants will not know if certain posted real-time ancillary service prices are correct and final.

By this notice, the period for filing answers to NYISO's request for a tariff waiver is shortened to and including August 3, 2011.

Dated: July 29, 2011.
Nathaniel J. Davis, Sr.
Deputy Secretary.

[FR Doc. 2011-20047 Filed 8-8-11; 8:45 am]

BILLING CODE 6717-01-P